DEPARTMENT OF AGRICULTURE

Rural Utilities Service

Turning Point Solar LLC: Notice of Finding of No Significant Impact

AGENCY: Rural Utilities Service, USDA.

ACTION: Notice of Finding of No Significant Impact.

SUMMARY: The Rural Utilities Service (RUS) has issued a Finding of No Significant Impact (FONSI) for the Environmental Assessment (EA) associated with a solar generation project. The EA was prepared in accordance with the National Environmental Policy Act (NEPA), the Council on Environmental Quality's (CEQ) regulations for implementing the procedural provisions of NEPA (40 CFR Parts 1500-1508) and RUS's NEPA implementing regulations (7 CFR Part 1794, Environmental Policies and Procedures). The EA evaluates the environmental impacts associated with a potential loan or loan guarantee to Turning Point Solar LLC (Turning Point Solar) for the proposal. RUS is considering funding this proposal.

ADDRESSES: To obtain copies of the FONSI or EA, or for further information, contact: Ms. Lauren McGee, Environmental Scientist, USDA, Rural Utilities Service, 1400 Independence Avenue SW., Stop 1571, Room 2244-S, Washington, DC 20250-1571, telephone: (202) 720-1482, fax: (202) 690-0649, or email: lauren.mcgee@wdc.usda.gov. A copy of the FONSI and EA can be viewed online at: http://www.rurdev.usda.gov/UWP-ea.htm.

SUPPLEMENTARY INFORMATION: Turning Point Solar proposes to construct a 49.9 MW solar generating facility in Brookfield Township, Noble County, Ohio. The proposal involves the installation of high-efficiency monocrystalline photovoltaic panels mounted on fixed solar racking equipment and the construction of access roads, a powerhouse, transmission improvements, and other supporting facilities. The preferred site is located eight miles northwest of Caldwell, Ohio, on approximately 771 acres of reclaimed strip-mined land owned by Columbus Southern Power Company and Ohio Power Company, collectively American Electric Power Ohio (“AEP Ohio”). The land was mined by the Central Ohio Coal Company between 1969 and 1991, after which time it was reclaimed. The proposed generating facility would interconnect to AEP Ohio's South Cumberland 69kV substation, subject to completion of the Pennsylvania-New Jersey-Maryland (PJM) Generation Interconnection application process.

A Notice of Intent to prepare an EA and hold a scoping meeting was published in the Federal Register on June 27, 2011, and in newspapers within the general circulation of the proposal area from June 27, 2011 to July 5, 2011. A public meeting was held on July 14, 2011, at the Caldwell Elementary School, located at: 44350 Fairground Road, Caldweld, Ohio. A scoping summary report can be found at the RUS Web site listed in this Notice. The notice of availability of the EA for public review was published in the Federal Register on February 1, 2012, and in newspapers within the general circulation of the proposal area on January 26, 2011 to January 30, 2011. The EA was available for public and agency review on the RUS Web site listed in this Notice and at Caldwell Public Library, located at: 517 Spruce Street, Caldwell, Ohio 43724. The 30-day comment period ended on March 2, 2012. RUS received three agency comments and one public comment. They are addressed in the FONSI.

Turning Point Solar hired URS Corporation to prepare an EA for RUS that described the proposal and assessed its potential environmental impacts. RUS conducted an independent evaluation of the EA and concurred with its scope and content. In accordance with RUS's Environmental Policies and Procedures at 7 CFR 1794.41, RUS accepted the document as its EA.

Based on its EA, RUS has concluded that the proposal would have no significant impacts to water quality, wetlands, the 100-year floodplain, land use, aesthetics, transportation, or human health and safety. The proposal will have no adverse effects on historic properties listed or eligible for listing on the National Register of Historic Places. RUS has also concluded that the proposal is not likely to affect federally listed threatened and endangered species or designated critical habitat. The proposal would not disproportionately affect minority and low-income populations.

No other potential significant impacts resulting from the proposal have been identified. Therefore, RUS has determined that this FONSI fulfills its obligations under NEPA for its action related to the proposal. RUS is satisfied that the environmental impacts of the proposal have been adequately addressed. If RUS takes a federal action on the proposal, it will not result in significant impacts to the quality of the human environment. Accordingly, an Environmental Impact Statement will not be prepared for the proposal.

Dated: April 19, 2012.
Nivin Elgohary,
Assistant Administrator, Electric Programs, USDA, Rural Utilities Service.

[FR Doc. 2012-10194 Filed 4-26-12; 8:45 am]

BILLING CODE P